DEPARTMENT OF ENERGY

Federal Energy Regulatory Commission

[Docket No. CP01-429-000]

Tennessee Gas Pipeline Company; Notice of Application

September 6, 2001.

Take notice that on August 22, 2001, Tennessee Gas Pipeline Company (Tennessee), Nine Greenway Plaza, Houston, Texas 77046, filed in Docket No. CP01-429-000, an application, pursuant to section 7(b) of the Natural Gas Act (NGA) and part 157 of the Commission's Regulations for abandonment authorization for compression facilities in Mississippi, all as more fully set forth in the application which is on file with the Commission and open to public inspection.

Tennessee proposes to abandon an 8,000 horsepower compressor unit at its Compressor Station 538 located near Heidelberg, Jones County, Mississippi. It is stated that the compressor unit was installed to increase long-haul throughput capacity on Tennessee's Delta-Portland Line to meet the system requirements of existing customers. It is explained that the compressor is no longer needed because capacity on the system has been increased by means of additional pipeline looping and compression, as well as a pigging program that resulted in greater pipeline efficiencies. It is further explained that changing markets and a decline in production in the southeastern Louisiana supply areas have lessened the need for the compressor. Tennessee proposes to abandon the compressor unit and related auxiliary facilities, including a fuel meter, by removal. It is estimated that the cost of removal of the facilities is $300,000. Tennessee asserts that the removal of the compressor unit will not impact current firm commitments on Tennessee's system.

Any questions regarding this application should be directed to Jay V. Allen, at (832)676-5589, or Veronica Hill at (832)676-3295.

There are two ways to become involved in the Commission's review of this project. First, any person wishing to obtain legal status by becoming a party to the proceedings for this project should, on or before September 27, 2001, file with the Federal Energy Regulatory Commission, 888 First Street, NE., Washington, DC 20426, a motion to intervene in accordance with the requirements of the Commission's Rules of Practice and Procedure (18 CFR 385.211 and 385.214) and the regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding. Comments and protests may be filed electronically via the internet in lieu of paper. See 18 CFR 385.2001(a)(1)(iii) and the Commission's website at http://www.ferc.fed.us/efi/doorbell.htm.

Persons who wish to comment only on the environmental review of this project should submit an original and two copies of their comments to the Secretary of the Commission. Environmental commenters will be placed on the Commission's environmental mailing list, will receive copies of environmental documents, and will be able to participate in meetings associated with the Commission's environmental review process. Commenters will not be required to serve copies of filed documents on all other parties. However, Commenters will not receive copies of all documents filed by other parties or issued by the Commission, and will not have the right to seek rehearing or appeal the Commission's final order to a Federal court.

The Commission will consider all comments and concerns equally, whether filed by commenters or those requesting intervenor status.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important to file comments or to intervene as early in the process as possible.

If the Commission decides to set the application for a formal hearing before an Administrative Law Judge, the Commission will issue another notice describing that process. At the end of the Commission's review process, a final Commission order approving or denying a certificate will be issued.

David P. Boergers,
Secretary.

[FR Doc. 01-22869 Filed 9-11-01; 8:45 am]

BILLING CODE 6717-01-P